DEPARTMENT OF THE INTERIOR

Bureau of Land Management

DEPARTMENT OF AGRICULTURE

Forest Service

[NV912-1640-PH-006F; 08-08807; TAS:14X1109]

Notice of Public Meeting: Recreation Subcommittee of the Sierra Front-Northwestern Great Basin, Northeastern Great Basin, and Mojave-Southern Great Basin Resource Advisory Councils, Nevada

AGENCIES: Bureau of Land Management, Interior and Forest Service, Agriculture.

ACTION: Notice of Recreation Advisory Subcommittee Meeting.

SUMMARY: In accordance with the Federal Lands Recreation Enhancement Act of 2004 (FLREA) (Pub. L. 108-447), the Recreation Subcommittee of the Bureau of Land Management's (BLM) Nevada Resource Advisory Committees will hold a meeting to discuss fee proposals to increase fees at campgrounds managed by the Forest Service in the Ely area, increase fees at Red Rock Canyon National Conservation Area, and to initiate a meeting room reservation fee at the California National Historic Trail Interpretive Center managed by the BLM Nevada Elko District Office.

DATES AND TIMES: The Recreation Subcommittee will meet on Wed., Nov. 12, 2008, from 12:30 p.m. to 4:30 p.m. A general public comment period, where the public may submit oral or written comments to the Recreation Subcommittee will begin at 4 p.m. unless otherwise listed in the final meeting agenda.

ADDRESSES: Gold Coast Hotel Casino, 4000 W. Flamingo, Las Vegas, Nevada.

FOR FURTHER INFORMATION CONTACT: Barbara Keleher, Outdoor Recreation Planner, telephone (775) 861-6628, at the BLM Nevada State Office, 1340 Financial Blvd., Reno, Nevada.

SUPPLEMENTARY INFORMATION: FLREA directs the Secretaries of the Interior and Agriculture to establish Recreation Resource Advisory Committees to provide advice and recommendations on recreation fees and fee areas in each State or region for Federal recreational lands and waters managed by the BLM or Forest Service. Nevada's recreation subcommittee includes members of the three existing BLM RACs and has responsibilities pertaining to both BLM and Forest Service managed Federal lands and waters according to a national interagency agreement between the Forest Service and BLM. This subcommittee will recommend new amenity fees and fee change proposals to the respective RAC(s) for each geographic region.

All meetings are open to the public. A final agenda will be available at http://www.blm.gov/nv/st/en.html. A news release will be sent to local and regional media at least 14 days before the meeting. Individuals who need special assistance such as sign language interpretation or other reasonable accommodations, or who wish a hard copy of each agenda, should contact Barbara Keleher no later than 10 days prior to the meeting.

Dated: September 18, 2008.
Ron Wenker,
BLM, Nevada State Director.
Dated: September 18, 2008.
Ed Monnig,
USFS, Supervisor, Humboldt-Toiyabe National Forest.

[FR Doc. E8-23112 Filed 9-30-08; 8:45 am]

BILLING CODE 4310-HC-P